ENVIRONMENTAL PROTECTION AGENCY

[FRL-9963-24-OA]

Notification of a Public Teleconference and Public Meeting of the Science Advisory Board Chemical Assessment Advisory Committee Augmented for the Review of EPA's Draft Ethyl Tertiary Butyl Ether (ETBE) and tert-Butyl Alcohol (tert-butanol; tBA) Assessments

AGENCY: Environmental Protection Agency (EPA).

ACTION: Notice.

SUMMARY: The Environmental Protection Agency (EPA) Science Advisory Board (SAB) Staff Office announces a public teleconference and a public face-to-face meeting of the SAB Chemical Assessment Advisory Committee augmented for the review of two EPA draft assessments: Toxicological Review for Ethyl Tertiary Butyl Ether (ETBE) (External Review Draft, dated May 2017); and Toxicological Review of tert-Butyl Alcohol (tert-butanol or tBA) (External Review Draft, dated May 2017) (CAAC augmented for ETBE/tBA Panel). A public teleconference will be held to learn about the development of the two EPA draft assessments and to discuss draft charge questions. A face-to-face meeting will be held to conduct a peer review of these assessments.

DATES: The public teleconference will be held on Tuesday, July 11, 2017, from 1 p.m. to 4 p.m. (Eastern Time). The public face-to-face meeting will be held from Tuesday, August 15, 2017 through Thursday, August 17, 2017, from approximately 8 a.m. to 5 p.m., (Eastern Time) daily.

ADDRESSES: The public teleconference will be held by telephone only. The public face-to-face meeting will be held at the Residence Inn Arlington Capital View, 2850 S. Potomac Ave., Arlington, VA 22202.

FOR FURTHER INFORMATION CONTACT: Any member of the public who wants further information concerning this meeting notice may contact Dr. Shaunta Hill-Hammond, Designated Federal Officer (DFO), via phone at (202) 564-3343, or email at hill-hammond.shaunta@epa.gov. General information about the SAB, as well as updates concerning the meeting announced in this notice, may be found on the EPA Web site at http://www.epa.gov/sab.

Technical Contact for EPA's Draft Reports: For information concerning the EPA draft assessments, please contact James Avery, phone (703) 347-8668 or via email at avery.james@epa.gov.

SUPPLEMENTARY INFORMATION:

Background: The SAB was established pursuant to the Environmental Research, Development, and Demonstration Authorization Act (ERDDAA), codified at 42 U.S.C. 4365, to provide independent scientific and technical advice to the Administrator on the scientific and technical basis for Agency positions and regulations. The SAB is a Federal Advisory Committee chartered under the Federal Advisory Committee Act (FACA), 5 U.S.C., App. 2. Pursuant to FACA and EPA policy, notice is hereby given that the SAB CAAC augmented for ETBE and tBA panel will hold a public teleconference and a public face-to-face meeting. The purpose of the teleconference is to learn about the development of the two EPA draft assessments on ETBE and tBA, and to discuss the draft charge questions. The purpose of the face-to-face meeting is to conduct a peer review of these two assessments.

In response to EPA's Office of Research and Development (ORD) request that the SAB conduct a peer review of two EPA draft assessments: (1) Toxicological Review of Ethyl Tertiary Butyl Ether (ETBE) and (2) Toxicological Review for tert-Butyl Alcohol (tert-butanol or tBA), the EPA SAB Staff Office augmented the SAB CAAC with subject matter experts, to provide advice to the Administrator through the chartered SAB regarding these assessments. The SAB and the CAAC augmented for ETBE and tBA panel will comply with the provisions of FACA and all appropriate SAB Staff Office procedural policies.

Availability of Meeting Materials: Prior to the meeting(s), the review documents, meeting agendas and other supporting materials (if applicable) will be accessible on the meeting page corresponding to each chemical assessment on the SAB Web site (http://www.epa.gov/sab).

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments pertaining to the EPA's charge, meeting materials, or the group providing advice. Input from the public to the SAB will have the most impact if it provides specific scientific or technical information or analysis for the SAB to consider or if it relates to the clarity or accuracy of the technical information. Members of the public wishing to provide comment should follow the instructions below to submit comments.

Oral Statements: In general, individuals or groups requesting to make an oral presentation will be limited to three minutes during a public teleconference and five minutes during a face-to-face meeting. Interested parties wishing to provide comments should contact Dr. Hill-Hammond (preferably via email), at the contact information noted above by June 30, 2017, to be placed on the list of public speakers for the teleconference and by August 8, 2017, to be placed on the list of public speakers for the face-to-face meeting.

Written Statements: Written statements will be accepted throughout the advisory process; however, for timely consideration by SAB members, statements should be supplied to the DFO (preferably via email) at the contact information noted above by June 30, 2017, for the teleconference meeting and by August 8, 2017, for the face-to-face meeting. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Hill-Hammond at the phone number or email address noted above, preferably at least ten days prior to the meeting, to give the EPA as much time as possible to process your request.

Dated: May 22, 2017.
Khanna Johnston,
Acting Deputy Director, EPA Science Advisory Board Staff Office.

[FR Doc. 2017-12466 Filed 6-15-17; 8:45 am]

BILLING CODE 6560-50-P